DEPARTMENT OF COMMERCE

International Trade Administration

[A-122-855, A-570-024, A-533-861, A-523-810]

Polyethylene Terephthalate Resin From Canada, the People's Republic of China, India, and the Sultanate of Oman: Continuation of the Antidumping Duty Orders

AGENCY: Enforcement and Compliance, International Trade Administration, Department of Commerce.

SUMMARY: As a result of the determinations by the Department of Commerce (Commerce) and the U.S. International Trade Commission (ITC) that revocation of the antidumping duty (AD) orders on polyethylene terephthalate (PET) resin from Canada, the People's Republic of China (China), India, and the Sultanate of Oman (Oman) would likely lead to a continuation or recurrence of dumping and material injury to an industry in the United States, Commerce is publishing a notice of continuation of these AD orders.

DATES: Applicable April 13, 2022.

FOR FURTHER INFORMATION CONTACT: Thomas Martin, AD/CVD Operations, Office IV, Enforcement and Compliance, International Trade Administration, U.S. Department of Commerce, 1401 Constitution Avenue NW, Washington, DC 20230; telephone: (202) 482-3936.

SUPPLEMENTARY INFORMATION:

Background

On May 6, 2016, Commerce published in the Federal Register the AD orders on PET resin from Canada, China, India, and Oman.¹ On April 1, 2021, Commerce initiated,² and the ITC instituted,³ sunset reviews of the Orders, pursuant to section 751(c) of the Tariff Act of 1930, as amended (the Act).

¹ See Certain Polyethylene Terephthalate Resin from Canada, the People's Republic of China, India, and the Sultanate of Oman: Amended Final Affirmative Antidumping Determination (Sultanate of Oman) and Antidumping Duty Orders, 81 FR 27979 (May 6, 2016) (Orders).

² See Institution of Five-Year (Sunset) Reviews, 86 FR 17197 (April 1, 2021).

³ See Polyethylene Terephthalate (PET) Resin from Canada, China, India, and Oman; Institution of a Five-Year Reviews, 86 FR 17197 (April 1, 2021).

As a result of its reviews, Commerce determined, pursuant to sections 751(c)(1) and 752(c) of the Act, that revocation of the Orders would likely lead to continuation or recurrence of dumping. Commerce, therefore, notified the ITC of the magnitude of the margins of dumping rates likely to prevail should these Orders be revoked.⁴

⁴ See Polyethylene Terephthalate Resin from Canada, China, India, and Oman: Final Results of the Expedited First Sunset Reviews of the Antidumping Duty Orders, 86 FR 41009 (July 30, 2021), and accompanying Issues and Decision Memorandum.

On April 4, 2022, the ITC published its determination that revocation of the Orders would likely lead to a continuation or recurrence of material injury to an industry in the United States within a reasonably foreseeable time, pursuant to sections 751(c) and 752(a) of the Act.⁵

⁵ See Polyethylene Terephthalate (PET) Resin from Canada, China, India, and Oman; Determinations, Inv. Nos. 701-TA-531-532 and 731-TA-1270-1273 (First Review), 87 FR 19531 (April 4, 2022); see also USITC Pub. 5298 (March 2022).

Scope of the Orders

The merchandise covered by the Orders is PET resin having an intrinsic viscosity of at least 0.70, but not more than 0.88, deciliters per gram. The scope includes blends of virgin PET resin and recycled PET resin containing 50 percent or more virgin PET resin content by weight, provided such blends meet the intrinsic viscosity requirements above. The scope includes all PET resin meeting the above specifications regardless of additives introduced in the manufacturing process. The merchandise subject to the Orders is properly classified under subheading 3907.60.00.30 of the Harmonized Tariff Schedule of the United States (HTSUS). Although the HTSUS subheading is provided for convenience and customs purposes, the written description of the merchandise covered by the Orders is dispositive.

Continuation of the Orders

As a result of the determinations by Commerce and the ITC that revocation of the Orders would likely lead to a continuation or recurrence of dumping and material injury to an industry in the United States, pursuant to section 751(d)(2) of the Act and 19 CFR 351.218(a), Commerce hereby orders the continuation of the Orders. U.S. Customs and Border Protection will continue to collect AD cash deposits at the rates in effect at the time of entry for all imports of subject merchandise.

The effective date of the continuation of the Orders will be the date of publication in the Federal Register of this notice of continuation. Pursuant to section 751(c)(2) of the Act and 19 CFR 351.218(c)(2), Commerce intends to initiate the next five-year (sunset) reviews of the Orders not later than 30 days prior to the fifth anniversary of the effective date of continuation.

Administrative Protective Order (APO)

This notice also serves as the only reminder to parties subject to APO of their responsibility concerning the return, destruction, or conversion to judicial protective order of proprietary information disclosed under APO in accordance with 19 CFR 351.305(a)(3). Failure to comply is a violation of the APO, which may be subject to sanctions.

Notification to Interested Parties

These five-year sunset reviews and this notice are in accordance with section 751(c) of the Act and published pursuant to section 777(i)(1) of the Act and 19 CFR 351.218(f)(4).

Dated: April 6, 2022.
Lisa W. Wang,
Assistant Secretary for Enforcement and Compliance.

[FR Doc. 2022-07863 Filed 4-12-22; 8:45 am]

BILLING CODE 3510-DS-P